INTERNATIONAL TRADE COMMISSION

[USITC SE-06-056]

Sunshine Act Meeting Notice

Agency Holding the Meeting: United States International Trade Commission.

Time and Date: November 3, 2006 at 11 a.m.

Place: Room 101, 500 E Street SW., Washington, DC 20436, Telephone: (202) 205-2000.

Status: Open to the public.

Matters to be Considered: 1. Agenda for future meetings: none.

2. Minutes.

3. Ratification List.

4. Inv. Nos. 731-TA-1105 and 1106 (Preliminary) (Lemon Juice from Argentina and Mexico)—briefing and vote. (The Commission is currently scheduled to transmit its determination to the Secretary of Commerce on or before November 6, 2006; Commissioners' opinions are currently scheduled to be transmitted to the Secretary of Commerce on or before November 14, 2006.)

5. Outstanding action jackets: none.

In accordance with Commission policy, subject matter listed above, not disposed of at the scheduled meeting, may be carried over to the agenda of the following meeting.

Issued: October 24, 2006.
By order of the Commission.
Marilyn R. Abbott,
Secretary to the Commission.

[FR Doc. 06-8957 Filed 10-25-06; 12:06 pm]

BILLING CODE 7020-02-M